DEPARTMENT OF COMMERCE

National Oceanic and Atmospheric Administration

50 CFR Part 648

RIN 0648-AS25

Magnuson-Stevens Fishery Conservation and Management Act Provisions; Fisheries of the Northeastern United States; Tilefish; Amendment 1

AGENCY: National Marine Fisheries Service (NMFS), National Oceanic and Atmospheric Administration (NOAA), Commerce.

ACTION: Notice of availability of a fishery management plan amendment; request for comments.

SUMMARY: NMFS announces that the Mid-Atlantic Fishery Management Council (Council) has submitted Amendment 1 to the Tilefish Fishery Management Plan (FMP) (Amendment 1), incorporating the Final Environmental Impact Statement (FEIS) and the Initial Regulatory Flexibility Analysis (IRFA), for review by the Secretary of Commerce. NMFS is requesting comments from the public on Amendment 1. The proposed measures in Amendment 1 would address issues and problems that have been identified since the FMP was first implemented. These measures are considered a means to achieve the management objectives of the FMP, and include measures to implement an IFQ program.

DATES: Comments must be received on or before July 6, 2009.

ADDRESSES: An FEIS was prepared for Amendment 1 that describes the proposed action and its alternatives and provides a thorough analysis of the impacts of proposed measures and their alternatives. Copies of Amendment 1, including the FEIS and the IRFA, are available from Daniel Furlong, Executive Director, Mid-Atlantic Fishery Management Council, Room 2115, Federal Building, 300 South New Street, Dover, DE 19904-6790. You may submit comments, identified by 0648-AS25, by any one of the following methods:

• Electronic Submissions: Submit all electronic public comments via the Federal eRulemaking Portal http://www.regulations.gov.

• Fax: (978) 281-9135, Attn: Timothy Cardiasmenos.

• Mail: Regional Administrator, NMFS, Northeast Regional Office, 55 Great Republic Drive, Gloucester, MA 01930. Mark the outside of the envelope, “Comments on Tilefish Amendment 1.”

Instructions: All comments received are a part of the public record and will generally beposted to http://www.regulations.gov without change. All Personal Identifying Information (for example, name, address, etc.) voluntarily submitted by the commenter may be publicly accessible. Do not submit Confidential Business Information or otherwise sensitive or protected information. NMFS will accept anonymous comments (enter N/A in the required fields if you wish to remain anonymous). Attachments to electronic comments will be accepted in Microsoft Word, Excel, WordPerfect, or Adobe PDF file formats only.

FOR FURTHER INFORMATION CONTACT: Timothy Cardiasmenos, Fishery Policy Analyst, phone 978-281-9204, fax 978-281-9135.

SUPPLEMENTARY INFORMATION:

Background

In March 2004, the Council began the development of Amendment 1 to the FMP to evaluate alternatives for a limited access privilege program and other measures for limited access vessels. The Council held 17 public meetings on Amendment 1 between March 2004 and April 2008. After considering a wide range of issues, alternatives, and public input, the Council submitted a draft environmental impact statement (DEIS) for Amendment 1 to NMFS. The notice of availability for the DEIS published in the Federal Register on December 28, 2007 (72 FR 73798). Following the public comment period on the DEIS that ended on February 11, 2008, the Council adopted Amendment 1 on April 10, 2008. Amendment 1 was developed and adopted by the Council in response to the requirements of the Magnuson-Stevens Fishery Conservation and Management Act and other applicable law. Amendment 1 management measures were developed by the Council and would: (1) Implement an Individual Fishing Quota (IFQ) program; (2) establish IFQ transferability of ownership; (3) establish a cap on the acquisition of IFQ allocation (temporary and permanent); (4) address fees and cost recovery; (5) establish flexibility to revise/adjust the IFQ program; (6) establish IFQ reporting requirements; (7) modify the Interactive Voice Response (IVR) reporting requirements; (8) implement recreational permits and reporting requirements; (9) improve monitoring of tilefish commercial landings; (10) expand the list of management measures that can be adjusted via the framework adjustment process; (11) modify the Essential Fish Habitat (EFH) designation; (12) modify the habitat areas of particular concern (HAPC) designation; and (13) implement measures to reduce gear impacts on EFH within the Exclusive Economic Zone. The proposed IFQ program measures are intended to reduce overcapacity in the commercial fishery, and to eliminate, to the extent possible, problems associated with a derby-style fishery. Amendment 1 also would create a tilefish open access Charter/Party permit, which would require reporting by the recreational component of the fishery. When the original FMP was instituted in 2001, the recreational component of the fishery was believed to be small. However, anecdotal evidence suggests that in recent years the recreational component of the fishery may have grown. The tilefish open access Charter/Party permit would provide NMFS with the ability to collect landings information on this component of the fishery in order to properly assess the health of the stock.

Public comments are being solicited on Amendment 1, and its incorporated documents, through the end of the comment period stated in this notice of availability. A proposed rule that would implement Amendment 1 will also be published in the Federal Register for public comment. Public comments on the proposed rule must be received by the end of the comment period provided in this notice of availability of Amendment 1 to be considered in the approval/disapproval decision on the amendment. All comments received by July 6, 2009, whether specifically directed to Amendment 1, or to the proposed rule for Amendment 1, will be considered in the approval/disapproval decision on Amendment 1. Comments received after that date will not be considered in the decision to approve or disapprove Amendment 1. To be considered, comments must be received by the close of business on the last day of the comment period; that does not mean postmarked or otherwise transmitted by that date.

Authority: 16 U.S.C. 1801 et seq.

Dated: April 29, 2009.
Alan D. Risenhoover,
Director, Office of Sustainable Fisheries, National Marine Fisheries Service.

[FR Doc. E9-10181 Filed 5-1-09; 8:45 am]

BILLING CODE S